DEPARTMENT OF THE INTERIOR

National Park Service

[NPS-PWR-PWRO-17327; PPPWLAKER6/PPMRSNR1Z.Y00000]

Record of Decision for Development Concept Plans for Cottonwood Cove and Katherine Landing, Lake Mead National Recreation Area, Nevada and Arizona

AGENCY: National Park Service, Interior.

ACTION: Notice of availability.

SUMMARY: The National Park Service has prepared and approved a Record of Decision for the Final Environmental Impact Statement for the Development Concept Plans (DCP) for Katherine Landing and Cottonwood Cove. Approval of the DCP concludes an extensive conservation planning and environmental impact analysis effort that began during 2008.

ADDRESSES: Those wishing to review the Record of Decision may obtain a copy by request to the Superintendent, Lake Mead National Recreation Area, 601 Nevada Way, Boulder City, Nevada 89005 or via telephone request at (702) 293-8978.

FOR FURTHER INFORMATION CONTACT: Michael Boyles, Acting Chief, Resource Management and Visitor Services, (702) 293-8978.

SUPPLEMENTARY INFORMATION: The National Park Service has prepared and approved a Record of Decision for the Final Environmental Impact Statement for the DCP for Cottonwood Cove and Katherine Land. This process was conducted pursuant to the National Environmental Policy Act of 1969 (42 U.S.C. 4321 et seq.) and the implementing regulations promulgated by the Council on Environmental Quality (40 CFR part 1505.2). The requisite no-action “wait period” was initiated on November 14, 2014, with the Environmental Protection Agency's Federal Register announcement of the filing of the Final EIS.

Three alternatives, all including mitigation measures, were evaluated during the DCP process. The “agency preferred” Alternative 3 Enhance Visitor Experience and Park Operations has been selected as the approved DCP. All primary project components of the selected alternative will be implemented as staffing and funding allow. Key actions include the following:

Cottonwood Cove

• Develop new day-use areas (picnic and no-boat areas) in Ski Cove, and designate trail to Cottontail Cove; existing day-use areas in Cottonwood Cove remain.

• Phase out trailer village near the end of the next concession contract pending an economic feasibility analysis. Redevelop site for RV use or concession operated overnight accommodations.

• Expand motel as needed; additional structures double capacity and include meeting space (for hosting meetings and other events).

• Maintain character of Mission 66 structures while responding to changing needs to the extent possible.

• Construct engineered system of diversion dikes and concrete channels to convey the 500 year flood to better protect visitor areas. Maintain the Early Warning Detection System, install flood warning signs, and develop evacuation plan.

Katherine Landing

• Remove motel; redevelop site for expanded visitor parking near lake. Provide other forms of overnight accommodations (e.g., RV park with pull-through parking).

• Phase out trailer village near the end of the next concession contract pending an economic feasibility analysis. The site would be redeveloped as part of an expanded, accessible campground that would be concessioner-run and would accommodate larger vehicles (larger sites with pull-through parking and hookups, etc.). Some portion of the campground would retain its current configuration for tent/car camping. Cabins may be part of the mix (exact mix of accommodations to be determined).

• Develop new paved loop serving both north and south areas of the development (housing/administration area to campground loop D).

• Consolidate NPS offices and operations (law enforcement/emergency, interpretation offices, etc.) in the vicinity of the NPS maintenance area; retain NPS maintenance area in same location.

• Construct engineered system of diversion dikes, channels, and detention basin to convey predicted maximum flood flows through North and South Katherine Washes.

• Install Early Warning Detection System for Katherine Landing; place flood warning signs and develop an evacuation plan for Katherine Landing and North and South Arizona Telephone Coves.

Princess Cove, Cabinsite Point, and North and South Arizona Telephone Cove

• Develop new picnic facilities at Cabinsite Point and provide additional parking and allow backcountry camping at some of the former cabin sites.

• Develop picnic area at North Arizona Telephone Cove and design access roads to eliminate or greatly reduce exposure to flood hazards at both North and South Arizona Telephone Coves.

• If launch capacity at Katherine Landing is reduced due to flood control, the park may consider paving and formalizing more of the overflow parking area at Princess Cove and improving the launch at North Arizona Telephone Cove or at Cabinsite Point, to align with established capacity levels set by the Lake Management Plan.

The approved development concept plan/environmental impact statement is a programmatic document covering both Cottonwood Cove and Katherine Landing areas. More detailed information will be developed during the individual project design stage. Based on this further design information, additional natural and cultural resource surveys and further Section 106 and NEPA compliance will be tiered from this document.

Dated: March 25, 2016.
Patricia L. Neubacher,
Acting Regional Director, Pacific West Region.

[FR Doc. 2016-08837 Filed 4-15-16; 8:45 am]

BILLING CODE 4312-FF-P